DEPARTMENT OF THE INTERIOR

National Park Service

General Management Plan, Environmental Impact Statement, John Fitzgerald Kennedy National Historic Site, Massachusetts

AGENCY: National Park Service, Department of the Interior.

ACTION: Notice of Intent to prepare an Environmental Impact Statement for the General Management Plan, John Fitzgerald Kennedy National Historic Site (NHS).

SUMMARY: Pursuant to the National Environmental Policy Act of 1969, 42 U.S.C. 4332(2)(C), the National Park Service is preparing an Environmental Impact Statement (EIS) for the General Management Plan (GMP) for the John Fitzgerald Kennedy NHS, Massachusetts. In cooperation with the Town of Brookline, MA, attention will be given to resources outside the boundaries that affect the integrity of the John Fitzgerald Kennedy NHS. The plan will identify management alternatives for the site. Major issues include the need to provide fundamental management guidance and to enable the park to strategically plan its long term resource management, visitor use, and partnership goals and objectives. This would be the first GMP for the John F. Kennedy NHS since its establishment in 1969. GMP issues include: (1) Creating strategies for resolving critical facility and visitor experience issues related to the small size of the site; (2) addressing the needs and expectations of a rapidly changing demographic audience; (3) developing a comprehensive resource management strategy for the site; (4) addressing alternative outreach and partnership program options, including interpreting the historic neighborhood where the Kennedy home is located; (5) improving the park's relationships with other presidential sites and other John F. Kennedy sites.

The Draft EIS/General Management Plan is expected to be available for public review in early 2010. After public and interagency review of the draft document, comments will be considered and a final GMP/EIS will be prepared that contains a preferred alternative for management of the John Fitzgerald Kennedy NHS (the GMP), followed by a Record of Decision.

DATES: The NPS will hold a public scoping meeting, which will provide opportunities to ask questions and raise issues concerning the General Management Plan for the John Fitzgerald Kennedy National Historic Site. Information on the time and place of the public scoping meeting will be publicized through the local news media serving the region around the park.

Further Information and Addresses: Persons who wish to comment orally or in writing, or who require further information are invited to contact James O'Connell, Project Manager, National Park Service, Northeast Region Boston Office, 15 State Street, Boston, MA 02109-3572; (617) 223-5222; fax -5164; e-mail at Jim_O'Connell@nps.gov.

Michael T. Reynolds,
Deputy Regional Director, Northeast Region.

[FR Doc. E8-14751 Filed 6-27-08; 8:45 am]

BILLING CODE 4312-08-P